DEPARTMENT OF ENERGY

10 CFR Part 431

[Docket Numbers EERE-2013-BT-STD-0007 and EERE-2013-BT-STD-0021]

RIN 1904-AC95 and 1904-AD11

Energy Conservation Program for Certain Industrial Equipment: Energy Conservation Standards for Small, Large, and Very Large Air-Cooled Commercial Package Air-Conditioning and Heating Equipment and Commercial Warm Air Furnaces; Correction

AGENCY: Office of Energy Efficiency and Renewable Energy, Department of Energy.

ACTION: Final rule; technical correction.

SUMMARY: On January 15, 2016, the U.S. Department of Energy (DOE) published a direct final rule in the Federal Register that amended the energy conservation standards for small, large, and very large air-cooled commercial package air conditioning and heating equipment and commercial warm air furnaces. This document corrects multiple editorial errors in that final rule.

DATES: Effective: August 15, 2016.

FOR FURTHER INFORMATION CONTACT: Mr. John Cymbalsky, U.S. Department of Energy, Office of Energy Efficiency and Renewable Energy, Building Technologies Office, EE-5B, 1000 Independence Avenue SW., Washington, DC 20585-0121. Telephone: (202) 286-1692. Email: John.Cymbalsky@ee.doe.gov.

SUPPLEMENTARY INFORMATION:

I. Background

On January 15, 2016, DOE's Office of Energy Efficiency and Renewable Energy published an energy conservation standards direct final rule (DFR) in the Federal Register titled, “Energy Conservation Standards for Small, Large, and Very Large Air-Cooled Commercial Package Air-Conditioning and Heating Equipment and Commercial Warm Air Furnaces” (“January 2016 DFR”). 81 FR 2420. Since the publication of that DFR, it has come to DOE's attention that, due to a technical oversight, certain portions of the regulatory text adopted in the January 2016 DFR for 10 CFR part 431 contained editorial errors.

As part of that DFR, DOE amended 10 CFR 431.97, which addresses energy conservation standards for commercial air conditioners and heat pumps. This correction addresses editorial errors in § 431.97(b) through (d). When DOE renumbered the tables in § 431.97(b), subsequent tables in that section were correctly renumbered, but all cross-references to those tables were not properly amended. In addition, when amending paragraph (c) in regards to table numbering, DOE inadvertently reverted to the introductory text from an earlier version of the CFR, prior to the effective dates of the July 21, 2015 and September 21, 2015 final rule and correction for energy conservation standards for packaged terminal air conditioners and heat pumps. 80 FR 43162; 80 FR 56894. In amending paragraph (b), DOE inadvertently removed a footnote to Table 2 that was established in the July 17, 2015, final rule regarding energy conservation standards and test procedures for commercial heating, air-conditioning, and water heating equipment. 80 FR 42614. Finally, in amending paragraph (b) to establish separate equipment classes for double-duct equipment (in Tables 5 and 6), DOE inadvertently omitted references to this equipment in one table heading (Table 1) and in one table (Table 6). In order to remedy these errors, DOE is issuing this technical correction. In some cases, DOE has removed the incorrect cross-references entirely, as the text is sufficiently clear without them.

II. Need for Correction

As published, the adopted energy conservation standards text may potentially result in confusion regarding which standards apply to which equipment.

Because this technical correction document would simply correct errors in the regulatory text without making substantive changes to the energy conservation standards, the changes addressed in this document are technical in nature. Accordingly, DOE finds that there is good cause under 5 U.S.C. 553(b)(B) to not issue a separate notice to solicit public comment on the changes contained in this document. Issuing a separate notice to solicit public comment would be impracticable, unnecessary, and contrary to the public interest.

III. Procedural Requirements

DOE has concluded that the determinations made pursuant to the various procedural requirements applicable to the January 2016 DFR remain unchanged for this technical correction. These determinations are set forth in the January 15, 2016 final rule. 81 FR 2420.

List of Subjects in 10 CFR Part 431

Administrative practice and procedure, Confidential business information, Energy conservation, Household appliances, Imports, Intergovernmental relations, Reporting and recordkeeping requirements, Small businesses.

Issued in Washington, DC, on August 5, 2016.
Kathleen B. Hogan,
Deputy Assistant Secretary for Energy Efficiency, Energy Efficiency and Renewable Energy.

For the reasons stated in the preamble, DOE amends part 431 of chapter II of title 10, Code of Federal Regulations as set forth below:

PART 431—ENERGY EFFICIENCY PROGRAM FOR CERTAIN COMMERCIAL AND INDUSTRIAL EQUIPMENT

1. The authority citation for part 431 continues to read as follows:

Authority: 42 U.S.C. 6291-6317.

2. Section 431.97 is amended:

a. In paragraph (b):

i. By revising the undesignated text after the Table 1 heading;

ii. In Table 2, the fourth column, last row remove “October 29, 2003.” and add in its place “October 29, 2003.³”;

iii. By adding note 3 to Table 2;

iv. In Table 6, in the first column, by adding “, Double-Duct” after each instance of “(Air-Cooled”;

b. In paragraph (c), in note 2 to Table 7, by removing “Table 6” and adding in its place “Table 8”;

c. By revising paragraph (c) introductory text, excluding Tables 7 and 8;

d. In paragraph (d)(1) by removing “Table 7 of”;

e. In paragraph (d)(2) by removing “Table 8 of”; and

f. In paragraph (d)(3) by removing “Table 9 of”.

The revisions read as follows:

§ 431.97 Energy efficiency standards and their compliance dates.

* * * * *

(b) * * *

Table 1 to § 431.97—Minimum Cooling Efficiency Standards for Air Conditioning and Heating Equipment
[Not including single package vertical air conditioners and single package vertical heat pumps, packaged terminal air conditioners and packaged terminal heat pumps, computer room air conditioners, variable refrigerant flow multi-split air conditioners and heat pumps, and double-duct air-cooled commercial package air conditioning and heating equipment]
* * * * * * *

Table 2 to § 431.97—Minimum Heating Efficiency Standards for Air Conditioning and Heating Equipment
[Heat Pumps]
* * * * * * *
Equipment type | Cooling capacity | Efficiency level | Compliance date: Equipment manufactured starting on . . .

* * * * * * *
* * * * * * *
³ And manufactured before October 9, 2015. See Table 4 of this section for updated heating efficiency standards.

* * * * *

(c) Each non-standard size packaged terminal air conditioner (PTAC) and packaged terminal heat pump (PTHP) manufactured on or after October 7, 2010 must meet the applicable minimum energy efficiency standard level(s) set forth in Table 7 of this section. Each standard size PTAC manufactured on or after October 8, 2012, and before January 1, 2017 must meet the applicable minimum energy efficiency standard level(s) set forth in Table 7 of this section. Each standard size PTHP manufactured on or after October 8, 2012 must meet the applicable minimum energy efficiency standard level(s) set forth in Table 7 of this section. Each standard size PTAC manufactured on or after January 1, 2017 must meet the applicable minimum energy efficiency standard level(s) set forth in Table 8 of this section.

* * * * *

[FR Doc. 2016-19358 Filed 8-12-16; 8:45 am]

BILLING CODE 6450-01-P